DEPARTMENT OF ENERGY

Federal Energy Regulatory Commission

[Docket No. CP02-6-000]

Colorado Interstate Gas Company; Notice of Intent To Prepare an Environmental Assessment for the Proposed Raton Basin 2002 Expansion Project, and Request for Comments on Environmental Issues

November 9, 2001.

The staff of the Federal Energy Regulatory Commission (FERC or Commission) will prepare an environmental assessment (EA) that will discuss the environmental impacts of Colorado Interstate Gas Company's (CIG) proposed Raton Basin 2002 Expansion Project in Las Animas and Baca Counties, Colorado, and Cimarron County, Oklahoma.¹ The project would involve the construction and operation of about 68 miles of pipeline, in three looping segments.² This EA will be used by the Commission in its decision-making process to determine whether the project is in the public convenience and necessity.

¹ CIG's application was filed under section 7(c) of the Natural Gas Act and part 157 of the Commission's regulations on October 5, 2001.

² A loop is a segment of pipeline installed adjacent to an existing pipeline and connected to it on both ends. The loop allows more gas to be moved through that segment of the pipeline system.

If you are a landowner receiving this notice, you may be contacted by a CIG representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” should have been attached to the project notice CIG provided to landowners. This fact sheet addresses a number of typically asked questions, including the use of eminent domain and how to participate in the Commission's proceedings. It is available for viewing on the FERC Internet web site (http://www.ferc.gov).

This Notice of Intent (NOI) is being sent to landowners along CIG's proposed route; Federal, state, and local government agencies; national elected officials; regional environmental and public interest groups; Indian tribes that might attach religious and cultural significance to historic properties in the area of potential effects; local libraries and newspapers; and the Commission's list of parties to the proceeding. Government representatives are encouraged to notify their constituents of this proposed action and encourage them to comment on their areas of concern. Additionally, with this NOI we are asking Federal, state, local, and tribal agencies with jurisdiction and/or special expertise with respect to environmental issues to cooperate with us in the preparation of the EA. These agencies may choose to participate once they have evaluated CIG's proposal relative to their agencies' responsibilities. Agencies who would like to request cooperating status should follow the instructions for filing comments described below.

Summary of the Proposed Project

CIG seeks to meet the demand for increased coal-bed methane production in the Raton Basin by expanding its transportation facilities out of this area. To accomplish this, CIG would construct and operate the following facilities:

• 200B Trinidad East Loop—25.6 miles of 16-inch-diameter pipeline in Las Animas County, Colorado;

• 200B Kim East Loop—28.1 miles of 16-inch-diameter pipeline in Las Animas and Baca Counties, Colorado; and

• 3B Keyes South Loop—14.4 miles of 20-inch-diameter pipeline in Cimarron County, Oklahoma.

The 200B Trinidad East Loop and the 200B Kim East Loop would be adjacent to CIG's existing 16-inch-diameter 200A Campo Lateral. The 3B Keyes South Loop would be adjacent to CIG's existing 20-inch-diameter 3A Campo Lateral. For the majority of the routes, the loops would be spaced about 35 feet from the existing pipelines. To avoid rugged topography, the loops would deviate from the existing pipelines for a total of 3.2 miles (about 5 percent of the total length of the project).

CIG would install 1 block valve along the 200B Trinidad East Loop, 2 block valves along the 200B Kim East Loop, and 1 block valve along the 3B Keyes South Loop. These block valves would be within the construction right-of-way for the pipelines. The nominal construction right-of-way for the loops would be 85-feet-wide.

As part of this project CIG also intends to expand its existing Dumas Meter Station in Moore County, Texas, and expand its existing Baker Meter Station in Texas County, Oklahoma. However, the expansion of the two meter stations would be done under CIG's existing blanket certificate authority. In addition, under the authority of section 2.55(a) of the Commission's regulations, CIG would install cathodic protection equipment, and pig launching and receiving facilities at the origin and terminus of each loop segment.

The project would allow CIG to increase the capacity of its Raton Basin System by about 57.8 million cubic feet per day of natural gas. The general location of CIG's proposed facilities is shown on the map attached as appendix 1.³

³ The appendices referenced in this notice are not being printed in the Federal Register. Copies are available on the Commission's website at the “RIMS” link or from the Commission's Public Reference and Files Maintenance Branch, 888 First Street, NE, Room 2A, Washington, DC 20426, or call (202) 208-1371. For instructions on connecting to RIMS refer to the last page of this notice. Copies of the appendices were sent to all those receiving this notice in the mail.

Land Requirements for Construction

Construction of CIG proposed facilities would affect a total of about 907 acres of land. About 827 acres would be needed for pipeline construction, including 6 staging areas, and 88 temporary extra work space areas outside of the nominal construction right-of-way. About 119 acres of the construction work area would be existing rights-of-way. In addition, 6 pipe yards, totaling about 80, acres would be used. Also, CIG would use 79 existing roads for access.

Following construction, about 413 acres would be retained as permanent right-of-way. The remaining 494 acres of temporary work space would be restored and allowed to revert to its former use.

The EA Process

The National Environmental Policy Act (NEPA) requires the Commission to take into account the environmental impacts that could result from an action whenever it considers the issuance of a Certificate of Public Convenience and Necessity. NEPA also requires us ⁴ to discover and address concerns the public may have about proposals. We call this “scoping.” The main goal of the scoping process is to focus the analysis in the EA on the important environmental issues. By this NOI, the Commission requests public comments on the scope of the issues it will address in the EA. All comments received are considered during the preparation of the EA.

⁴ ”Us,” “we,” and “our” refer to the environmental staff of the FERC's Office of Energy Projects.

Our independent analysis of the issues will be in the EA. We will also evaluate possible alternatives to the proposed action, or portions of the project, and make recommendations on how to lessen or avoid impacts on various environmental resources.

Depending on the comments received during the scoping process, the EA may be published and mailed to Federal, state, and local agencies, elected officials, affected landowners, regional public interest groups, Indian tribes, local newspapers and libraries, and the Commission's official service list for this proceeding. A comment period will be allotted for review if the EA is published. We will consider all comments on the EA before we make our recommendations to the Commission.

Currently Identified Environmental Issues

The EA will discuss impacts that could occur as a result of construction and operation of the proposed project. We have already identified a number of issues that we think deserve attention based on a preliminary review of the proposed facilities and the environmental information provided by CIG. This preliminary list of issues may be changed based on your comments and our analysis.

• Geology and Soils

• Crossing soils with high erosion and poor revegetation potential.

• Crossing lands set-aside for the Conservation Reserve Program.

• Water Resources and Wetlands

• Crossing 4 perennial streams.

• Crossing 6 wetlands, totaling 238 feet.

• Vegetation

• Crossing about 45 miles of short grass prairie.

—Crossing about 1 mile of juniper woodlands.

• Threatened and Endangered Species

—Flathead chub occurs in 2 streams to be crossed.

—Other listed, candidate, or sensitive species in the project area include the bald eagle, Eskimo curlew, black-tailed prairie dog, and lesser prairie chicken.

• Cultural Resources

—Potential impacts on 22 cultural resources.

—Consultations with Native Americans concerning sacred sites.

• Land Use

—Crossing about 11 miles of agricultural land.

—Crossing 6.6 miles of the Comanche National Grasslands.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426;

• Label one copy of the comments for the attention of the Gas/Hydro Branch, PJ-11.3;

• Reference Docket No. CP02-6-000; and

• Submit your comments so that they will be received in Washington, DC on or before December 14, 2001.

Comments, protests and interventions may be filed electronically via the Internet in lieu of paper. See 18 CFR 385.2001(a)(1)(iii) and the instructions on the Commission's Web site at http://www.ferc.gov under the “e-Filing” link and link to the User's Guide. Before you can file comments you will need to create an account which can be created by clicking on “Login to File” and then “New User Account.”

Due to recent events, we cannot guarantee that we will receive mail on a timely basis from the U.S. Postal Service, and we do not know how long this situation will continue. However, we continue to receive filings from private mail delivery services, including messenger services in a reliable manner. The Commission encourages electronic filing of any comments, interventions or protests to this proceeding. We will include all comments that we receive within a reasonable time frame in our environmental analysis of this project.

Everyone who responds to this NOI or comments throughout the EA process will be retained on our environmental mailing list. If you do not want to send comments at this time but still want to remain on our mailing list, please return the Information Request (appendix 3). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to rule 214 of the Commission's rules of practice and procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC Web site (http://www.ferc.gov) using the “RIMS” link to information in this docket number. Click on the “RIMS” link, select “Docket #” from the RIMS Menu, and follow the instructions. For assistance with access to RIMS, the RIMS helpline can be reached at (202) 208-2222. Similarly, the “CIPS” link on the FERC Internet Web site provides access to the texts of formal documents issued by the Commission, such as orders, notices, and rulemakings. From the FERC Internet Web site, click on the “CIPS” link, select “Docket #” from the CIPS menu, and follow the instructions. For assistance with access to CIPS, the CIPS helpline can be reached at (202) 208-2474.

Linwood A. Watson, Jr.,
Acting Secretary.

[FR Doc. 01-28786 Filed 11-16-01; 8:45 am]

BILLING CODE 6717-01-P